DEPARTMENT OF TRANSPORTATION

National Highway Traffic Safety Administration

[Docket No. NHTSA-2024-0036]

Denial of Motor Vehicle Defect Petition, DP24-002

AGENCY: National Highway Traffic Safety Administration (NHTSA), Department of Transportation.

ACTION: Denial of a petition for a defect investigation.

SUMMARY: This notice sets forth the reasons for the denial of a defect petition, DP24-002, submitted by Ms. Elizabeth Margulies (the Petitioner) to NHTSA (the Agency) by a letter dated February 15, 2024. The petition requests that the Agency initiate a safety defect investigation into loss of motive power incidents attributed to vehicles manufactured by Kia America, Inc. (Kia) equipped with 3.3 L Lambda-II engines. After conducting a technical review of the petition and other information, NHTSA's Office of Defects Investigation (ODI) has concluded that that the issues raised by the petition do not warrant a new defect investigation. Peer vehicles equipped with the 3.3 L Lambda-II engine are already being considered in an open investigation into allegations of loss of motive power for Model Year (MY) 2016-2017 Kia Sorento vehicles equipped with the same 3.3 L Lambda-II engine. Accordingly, the Agency has denied the petition as moot.

FOR FURTHER INFORMATION CONTACT: David Engel, Vehicle Defect Division C, Office of Defects Investigation, NHTSA, 1200 New Jersey Avenue SE, Washington, DC, 20590. Telephone: 202-366-0385. Email: david.engel@dot.gov.

SUPPLEMENTARY INFORMATION:

Introduction

Interested persons may petition NHTSA requesting that the Agency initiate an investigation to determine whether a motor vehicle or an item of replacement equipment does not comply with an applicable motor vehicle safety standard or contains a defect that relates to motor vehicle safety. 49 U.S.C. 30162(a)(2); 49 CFR 552.1. Upon receipt of a properly filed petition, the Agency conducts a technical review of the petition, material submitted with the petition and any additional information. 49 U.S.C. 30162(a)(2); 49 CFR 552.6. The technical review may consist solely of a review of information already in the possession of the Agency or it may include the collection of information from a motor vehicle manufacturer and/or other sources. After conducting the technical review and considering appropriate factors, which may include, but are not limited to, the nature of the complaint, allocation of Agency resources, Agency priorities, the likelihood of uncovering sufficient evidence to establish the existence of a defect and the likelihood of success in any necessary enforcement litigation, the Agency will grant or deny the petition. See 49 U.S.C. 30162(a)(2); 49 CFR 552.8.

Background Information

The Office of Defects Investigation (ODI) received a petition dated February 15, 2024, requesting a defect investigation into an alleged defect of the 3.3L Lambda-II engine equipped in Kia vehicles.¹ The Petitioner owns a MY 2016 Kia Sedona with a 3.3 L Lambda-II engine and addresses concerns with that vehicle, as well as others with that same engine.

¹ The letter also included a request for rulemaking with the stated goal of ensuring Kia vehicles equipped with the engine at issue adhere to safety standards that “effectively mitigate and rectify the identified defect.” NHTSA interprets this request as a part of the Petitioner's request for a defect investigation. The Vehicle Safety Act provides for a petition to request that NHTSA “prescribe a motor vehicle safety standard.” 49 U.S.C. 30162(a)(1); see 49 CFR 552.3(a). Federal Motor Vehicle Safety Standards (FMVSS) are requirements that apply to new vehicles at the time of manufacture. See 49 U.S.C. 30111, 30115. The Petitioner is instead requesting NHTSA take action with respect to an alleged defect in vehicles already manufactured and certified as compliant with the FMVSS. A defect petition is the appropriate mechanism to address the substance of Petitioner's request.

Summary of Petition

The petition cites allegations of a sudden loss of motive power, often resulting in an engine seizure. The stall is preceded by a knocking sound, sudden loss of all oil, and no warning lights.

Office of Defects Investigation Analysis

On November 13, 2023, ODI opened PE23-019 to address allegations of loss of motive power, on the 3.3L V6 Lambda-II engine for MY 2016-2017 Kia Sorento. Even though the failure mechanism could be considered different between DP24-001 and PE23-019, the hazard at which it progresses is the same. PE23-019 includes the MY 2016 Kia Sedona, the Petitioner's vehicle, as a peer vehicle. The investigation addresses as peer vehicles all MY 2014-2015 and 2018-2020 Kia Sorento, 2014-2020 Kia Cadenza, and 2015-2021 Kia Sedona vehicles with 3.3 L engines manufactured for sale or lease in the United States.

The investigation seeks to identify any hazards associated with this failure mode and will consider if the allegations cited by the Petitioner present a risk to vehicle safety. This investigation includes quantifying the severity and frequency of the alleged loss of motive power in the peer vehicles.

This investigation is ongoing and addresses the potential safety-related defect raised by the Petitioner. In view of the open investigation, PE23-019, ODI is denying the petition as moot. The Agency will evaluate through PE23-019 if a safety-related defect exists.

Authority: 49 U.S.C. 30162(d) and 49 CFR part 522; delegation of authority at 49 CFR 1.95(a).²

² The authority to determine whether to approve or deny defect petitions under 49 U.S.C. 30162(d) and 49 CFR part 552 has been further delegated to the Associate Administrator for Enforcement.

Eileen Sullivan,
Associate Administrator for Enforcement.

[FR Doc. 2024-15642 Filed 7-16-24; 8:45 am]

BILLING CODE 4910-59-P